DEPARTMENT OF ENERGY

Federal Energy Regulatory Commission

[Docket No. AD24-9-000]

Innovations and Efficiencies in Generator Interconnection; Supplemental Notice of Staff-Led Workshop

As first announced in the Notice of Staff-Led Workshop issued in this proceeding on May 13, 2024, pursuant to 18 CFR 2.1(a), the Federal Energy Regulatory Commission (Commission) will convene a staff-led workshop in the above-referenced proceeding at Commission headquarters, 888 First Street NE, Washington, DC 20426 on Tuesday, September 10, 2024 and Wednesday, September 11, 2024 from approximately 9:00 a.m. to 5:00 p.m. Eastern time. This supplemental notice provides additional detail as to the planned content of the workshop and the self-nomination process for interested panelists.

The conference will be held in-person. The tentative topics and panels for the workshop appear below. A detailed agenda with the final list of topics and panels, selected speakers, presentation dates, and times for the selected speakers will be published on the Commission's website ¹ and in eLibrary at a later date.

¹ https://www.ferc.gov/news-events/events/innovations-and-efficiencies-generator-interconnection-workshop-docket-no-ad24-9.

This conference will bring together experts from diverse backgrounds including project developers, transmission owners and providers, government, research centers, and academia. The conference will bring these experts together for the purposes of identifying and discussing potential innovations and efficiencies related to generator interconnection.

Broadly, such topics fall into the following categories, which may be subject to change:

The Day 1 Innovations Panels will discuss enhancements to current generator interconnection processes that may build upon the reforms in Order No. 2023.²

² Improvements to Generator Interconnection Procs. & Agreements, Order No. 2023, 184 FERC ¶ 61,054, order on reh'g, 185 FERC ¶ 61,063 (2023), order on reh'g, Order No. 2023-A, 186 FERC ¶ 61,199 (2024).

(Inn.1) Innovations Panel 1, integrated transmission planning and generator interconnection, will explore the extent to which transmission planning and generator interconnection processes may be further integrated beyond the reforms adopted in Order No. 1920.³ This panel will explore ideas to more efficiently and proactively plan for and interconnect new generation with increased cost certainty.

³ Building for the Future Through Electric Regional Transmission Planning and Cost Allocation, Order No. 1920, 187 FERC ¶ 61,068 (2024).

(Inn.2) Innovations Panel 2, further changes, will examine the viability and utility of different approaches to organizing, processing, and studying generator interconnection requests, such as an ERIS-focused (or “connect and manage”) process, the use of competitive mechanisms (e.g., an auction process to allocate scarce capacity or to resolve competition for the same point of interconnection), or other potential approaches.

(Inn.3) Innovations Panel 3, prioritizing generator interconnection requests, will examine whether proposed generating facilities may be prioritized in the interconnection queue beyond the use of first-ready, first-served cluster window deadlines and readiness milestones as adopted by Order No. 2023 without undue discrimination.

The Day 2 Efficiencies Panels will discuss incremental changes to current generator interconnection processes that may build upon the reforms in Order No. 2023.

(Eff.1) Efficiencies Panel 1, the generator interconnection process, will evaluate the potential for increased efficiency throughout the generator interconnection process (excluding topics covered in Efficiencies Panels 2 and 3), such as, for example, providing additional pre-application data to interconnection customers or establishing fast-tracking processes for interconnection requests at points of interconnection with fewer system constraints.

(Eff.2) Efficiencies Panel 2, automation, will assess opportunities for greater efficiency in the processing and study of interconnection requests by automating different steps in the process and using advanced computing technologies such as artificial intelligence to shorten the timeline from interconnection request to interconnection agreement.⁴

⁴ Artificial intelligence (AI) is a broad term for a spectrum of tools ranging from data validation on the simple side, to machine learning and statistical modeling in the middle, to deep learning and generative AI on the complex side of the spectrum.

(Eff.3) Efficiencies Panel 3, post-generator interconnection agreement construction phase, will discuss opportunities for greater efficiency, transparency, and accountability in the design, construction, and operation of interconnection facilities and network upgrades.

Individuals interested in participating as panelists should submit a self-nomination email no later than 5:00 p.m. Eastern time on July 12, 2024, to Panelist_InterconnectionWorkshop@ferc.gov. The self-nominations should have “Panelist Self-Nomination” in the subject line and include the panelist's name, contact information, organizational affiliation, one-paragraph biography, the panel the self-nominated panelist proposes to speak on, and a description of what they would like to discuss. Speakers are encouraged to build on existing developments in generator interconnection. Presentations that center on pending contested proceedings or pending requests for variations submitted in compliance with Order No. 2023 are discouraged.

The workshop will be open to the public to attend virtually or in person and there is no fee for attendance. A supplemental notice will be issued with further details regarding the workshop agenda, as well as any changes in timing or logistics. Information will also be posted on the Calendar of Events on the Commission's website, www.ferc.gov, prior to the event. To stay apprised of issuances in this docket, there is an “eSubscription” link on the Commission's website that enables subscribers to receive email notification when a document is added to a subscribed docket(s). For assistance with any FERC Online service, please email FERCOnlineSupport@ferc.gov, or call (866) 208-3676 (toll free). For TTY, call (202) 502-8659.

The workshop will be transcribed and webcast. Transcripts will be available for a fee from Ace Reporting (202-347-3700). A link to the webcast of this event will be available in the Commission Calendar of Events at www.ferc.gov. The Commission provides technical support for the free webcasts. Please call 202-502-8680 or email customer@ferc.gov if you have any questions.

FERC conferences are accessible under section 508 of the Rehabilitation Act of 1973. For accessibility accommodations please send an email to accessibility@ferc.gov or call toll free (866) 208-3372 (voice) or (202) 502-8659 (TTY), or send a fax to (202) 208-2106 with the required accommodations.

For further information about this workshop, please contact:

Michael G. Henry (Technical Information). Office of Energy Policy and Innovation, 202-502-8583, Michael.Henry@ferc.gov

Lewis Taylor (Legal Information), Office of General Counsel, 202-502-8624, Lewis.Taylor@ferc.gov

Dated: June 27, 2024.
Debbie-Anne A. Reese,
Acting Secretary.

[FR Doc. 2024-14675 Filed 7-2-24; 8:45 am]

BILLING CODE 6717-01-P